DEPARTMENT OF THE TREASURY

Financial Management Service; Senior Executive Service; Financial Management Service Performance Review Board (PRB)

AGENCY: Financial Management Service, Treasury.

ACTION: Notice.

SUMMARY: This notice announces the appointment of members to the Financial Management Service (FMS) Performance Review Board (PRB).

DATES: This notice is effective on August 26, 2008.

FOR FURTHER INFORMATION CONTACT: David A. Lebryk, Deputy Commissioner, Financial Management Service, 401 14th Street, SW., Washington, DC; telephone (202) 874-7000.

SUPPLEMENTARY INFORMATION: Pursuant to 5 U.S.C. 4314(c)(4), this notice is given of the appointment of individuals to serve as members of the FMS PRB. This Board reviews the performance appraisals of career senior executives below the Assistant Commissioner level and makes recommendations regarding ratings, bonuses, and other personnel actions. Four voting members constitute a quorum. The names and titles of the FMS PRB members are as follows:

Primary Members

David A. Lebryk, Deputy Commissioner

Rita Bratcher, Assistant Commissioner, Debt Management Services

Sheryl R. Morrow, Assistant Commissioner, Federal Finance

Wanda Rogers, Assistant Commissioner, Payment Management

Charles R. Simpson, Assistant Commissioner, Information Resources

D. James Sturgill, Assistant Commissioner, Govermentwide Accounting

Alternate Member

Scott H. Johnson, Assistant Commissioner, Management (Chief Financial Officer)

David A. Lebryk,
Deputy Commissioner.

[FR Doc. E8-19767 Filed 8-25-08; 8:45 am]

BILLING CODE 4810-35-M